COMMODITY FUTURES TRADING

Sunshine Act; Meetings

TIME AND DATE: 10:30 a.m., Friday, September 12, 2003.

PLACE: 1155 21st St., NW., Washington, DC, Room 9012.

STATUS: Closed.

MATTERS TO BE CONSIDERED: Surveillance Matters.

CONTACT PERSON FOR MORE INFORMATION: Jean A. Webb, (202) 418-5100.

Jean A. Webb,
Secretary of the Commission.

[FR Doc. 03-21913 Filed 8-22-03; 1:07 pm]

BILLING CODE 6351-01-M